DEPARTMENT OF COMMERCE

International Trade Administration

A-570-506

Porcelain-on-Steel Cooking Ware from the People's Republic of China: Extension of Time Limit for Preliminary Results of the Antidumping Duty Administrative Review

AGENCY: Import Administration, International Trade Administration, Department of Commerce.

EFFECTIVE DATE: August 11, 2005.

FOR FURTHER INFORMATION CONTACT: P. Lee Smith, AD/CVD Operations, Office 9, Import Administration, International Trade Administration, U.S. Department of Commerce, 14th Street and Constitution Avenue, NW, Washington, DC 20230; telephone (202) 482-1655.

SUPPLEMENTARY INFORMATION:

Background

On December 1, 2004, the Department published an opportunity to request a review for porcelain-on-steel cooking ware from the People's Republic of China (“PRC”) for the period of December 1, 2003, to November 30, 2004. See Antidumping or Countervailing Duty Order, Filing, or Suspended Investigation; Opportunity to Request an Administrative Review, 69 FR 69889 (December 1, 2004). On December 28, 2005, respondent Shanghai Watex Metal Products Co., Ltd., an exporter of the subject merchandise, requested a review. No other interested parties requested a review. On January 31, 2005, the Department published its notice of initiation of an antidumping administrative review on porcelain-on-steel cooking ware from the PRC. See Initiation of Antidumping and Countervailing Duty Administrative Reviews and Request for Revocation in Part, 70 FR 4818 (January 31, 2005). The preliminary results of this administrative review are currently due no later than September 2, 2005.

Extension of Time Limit for Preliminary Results

Pursuant to section 751(a)(3)(A) of the Tariff Act of 1930, as amended (“the Act”), the Department shall issue preliminary results in an administrative review of an antidumping duty order within 245 days after the last day of the anniversary month of the date of publication of the order for which a review is requested and the final results within 120 days after the date on which the preliminary results are published. However, if it is not practicable to complete the review within the specified time periods, section 751(a)(3)(A) of the Act allows the Department to extend these deadlines to a maximum of 365 days and 180 days, respectively.

The Department finds that it is not practicable to complete the preliminary results in the administrative review of porcelain-on-steel cooking ware from the PRC within the originally anticipated time limit, September 2, 2005, because we are currently analyzing factors of production information that has required numerous supplemental questionnaires. Therefore, the Department is extending the time limit for completion of the preliminary results by 90 days to December 1, 2005, in accordance with Section 751(a)(3)(A) of the Act. The deadline for the final results of this administrative review continues to be 120 days after the publication of the preliminary results.

We are issuing and publishing this notice in accordance with Section 751(a)(1) and 777(i)(1) of the Act.

Dated: August 4, 2005.
Barbara E. Tillman,
Acting Deputy Assistant Secretary for Import Administration.

[FR Doc. E5-4354 Filed 8-11-05; 8:45 am]

BILLING CODE 3510-DS-S